DEPARTMENT OF AGRICULTURE

Forest Service

Colville Resource Advisory Committee (RAC)

AGENCY: Forest Service, USDA.

ACTION: Notice of meeting.

SUMMARY: The Colville Resource Advisory Committee will meet on Thursday, June 19, 2003 at the Spokane Community College, Colville Campus, Monumental Room, 985 South Elm Street, Colville, Washington. The meeting will begin at 9 a.m. and conclude at 4 p.m. Agenda items include: (1) RAC officer (chair) election; (2) RAC budget, expenses, and communication strategies; (3) Bylaws and Charter Review and Update; (4) Fiscal Year 2004 Title II projects review and recommendation to the forest designated official; and (5) Public Forum.

FOR FURTHER INFORMATION CONTACT: Direct questions regarding this meeting to Rolando Ortegon, Designated Federal Officer or to Cynthia Reichelt, Public Affairs Officer, Colville National Forest, 765 S. Main, Colville, Washington 99114, (509) 684-7000.

Dated: May 28, 2003.
Rolando Ortegon,
Acting Forest Supervisor, Colville National Forest.

[FR Doc. 03-14121 Filed 6-4-03; 8:45 am]

BILLING CODE 3410-11-M